OFFICE OF THE UNITED STATES TRADE REPRESENTATIVE

[DOCKET NUMBER USTR-2017-0013]

Request for Comments Concerning an Environmental Review of the Proposed Renegotiation of the North American Free Trade Agreement

AGENCY: Office of the United States Trade Representative.

ACTION: Notice.

SUMMARY: The Office of the United States Trade Representative (USTR), through the Trade Policy Staff Committee (TPSC), is initiating an environmental review relating to the renegotiation of the North American Free Trade Agreement (NAFTA), a free trade agreement between the United States, Canada, and Mexico. The TPSC invites written comments on the topics that should be included in the scope of the environmental review, including potential positive or negative environmental effects that might result from the trade agreement and potential implications for U.S. environmental laws and regulations. The TPSC also welcomes comments on appropriate methodologies and sources of data for conducting the review. We will take comments on environmental issues we received in response to the notice published in the Federal Register on May 23, 2017, requesting comments on NAFTA negotiating objectives into account in preparing the environmental review and you do not need to resubmit these comments.

DATES: We must receive your comments by November 27, 2017.

ADDRESSES: We strongly prefers electronic submissions made through the Federal eRulemaking Portal: http://www.regulations.gov. Follow the instructions for submitting comments in section 3 below. The docket number is USTR-2017-0013. For alternatives to on-line submissions, please contact Yvonne Jamison, Trade Policy Staff Committee, at (202) 395-3475.

FOR FURTHER INFORMATION CONTACT: Direct questions about submission of comments to Yvonne Jamison at (202) 395-3475. Direct substantive questions to Sarah Stewart at (202) 395-7320.

SUPPLEMENTARY INFORMATION:

1. Background

On May 18, 2017, following consultations with relevant Congressional committees, USTR informed Congress that the President was entering into negotiations with Canada and Mexico with respect to the NAFTA. Through a notice in the Federal Register (82 FR 23699) and a public hearing held on June 27-29, 2017, in Washington, DC, the TPSC invited the public to provide comments and testimony to assist USTR in assessing U.S. objectives for the proposed agreement. You can find a description of the U.S. negotiating objectives for the NAFTA on the USTR Web site: https://ustr.gov/sites/default/files/files/Press/Releases/NAFTAObjectives.pdf.

2. Environmental Review

Section 105(d)(1)(A) of the Bipartisan Congressional Trade Priorities and Accountability Act of 2015, 19 U.S.C. 4201, requires environmental reviews of trade agreements consistent with Executive Order 13141 (64 FR 63169, Nov. 18, 1999) and the implementing guidelines (65 FR 79442, Dec. 19, 2000). The purpose of environmental reviews is to ensure that policymakers and the public are informed about reasonably foreseeable environmental impacts of trade agreements (both positive and negative), to identify complementarities between trade and environmental objectives, and to help shape appropriate responses if environmental impacts are identified. Reviews are one of the tools we use to integrate environmental information and analysis into the fluid, dynamic process of trade negotiations. USTR and the Council on Environmental Quality jointly oversee implementation of the Executive Order and its implementing guidelines. USTR, through the TPSC, is responsible for conducting the individual reviews. You can find additional background information and examples of prior environmental reviews on the USTR Web site: https://ustr.gov/issue-areas/environment/environmental-reviews.

3. Requirements for Submissions

Persons submitting comments must do so in English and must identify (on the first page of the submission) “Comments Regarding the NAFTA Environmental Review.” In order to be assured of consideration, you must submit comments by November 27, 2017. In order to ensure the timely receipt and consideration of comments, USTR strongly encourages commenters to make on-line submissions using the www.regulations.gov.

To submit comments via www.regulations.gov, enter docket number USTR 2017-0013 on the home page and click “search.” The site will provide a search-results page listing all documents associated with this docket. Find a reference to this notice and click on the link entitled “Comment Now!” For further information on using the www.regulations.gov Web site, please consult the resources provided on the Web site by clicking on “How to Use Regulations.gov” on the bottom of the home page. We will not accept hand-delivered submissions.

The www.regulations.gov Web site allows users to submit comments by filling in a “Type Comment” field or by attaching a document using an “Upload File” field. USTR prefers that you submit comments in an attached document. USTR prefers submissions in Microsoft Word (.doc) or Adobe Acrobat (.pdf). If you use an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information also must submit a public version of their comments that we will place in the docket for public inspection. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the submission itself. Similarly, to the extent possible, please include any exhibits, annexes, or other attachments in the same file as the submission itself, not as separate files.

As noted, USTR strongly urges submitters to file comments through www.regulations.gov. You must make any alternative arrangements in advance of transmitting a comment by contacting Yvonne Jamison at (202) 395-3475. General information concerning USTR is available at www.ustr.gov.

We will place comments in the public docket except business confidential information. You can view comments on the www.regulations.gov Web site by entering the relevant docket number in the search field on the home page.

Edward Gresser,
Chair, Trade Policy Staff Committee, Office of the United States Trade Representative.

[FR Doc. 2017-20526 Filed 9-25-17; 8:45 am]

BILLING CODE 3290-F7-P